DEPARTMENT OF TRANSPORTATION

Federal Aviation Administration

14 CFR Parts 91, 121, 125, and 135

[Docket No. FAA-2022-0912; Amdt. Nos. 91-368, 121-388, 125-73, and 135-144]

RIN 2120-AL36

Updating Manual Requirements To Accommodate Technology

AGENCY: Federal Aviation Administration (FAA), Department of Transportation (DOT).

ACTION: Final rule.

SUMMARY: This final rule updates the Federal Aviation Administration (FAA) manual requirements to reflect industry use of electronic and paper manuals. The amendments apply to fractional ownership operations; domestic, flag, and supplemental operations; rules governing the operations of U.S.-registered civil airplanes which have a seating configuration of 20 or more passengers or a maximum payload capacity of 6,000 pounds or more when common carriage is not involved; and commuter and on-demand operations. This action requires manuals accessed in paper format to display the date of last revision on each page, and it requires manuals accessed in electronic format to display the date of last revision in a manner in which a person can immediately ascertain it. This action also revises the requirement for program managers or certificate holders to carry appropriate parts of the manual aboard airplanes during operations. The FAA instead requires program managers or certificate holders to ensure the appropriate parts of the manual are accessible to flight, ground, and maintenance personnel when such personnel are performing their assigned duties. Lastly, this rule updates outdated language that refers to accessing information in manuals kept in microfiche. The FAA removes this outdated language and simply requires that all manual information and instructions be displayed clearly and be retrievable in the English language.

DATES: This final rule is effective June 29, 2023.

ADDRESSES: For information on where to obtain copies of rulemaking documents and other information related to this final rule, see “Additional Information” in the SUPPLEMENTARY INFORMATION section of this document.

FOR FURTHER INFORMATION CONTACT: Sandra Ray, Voluntary Programs and Rulemaking Section, Federal Aviation Administration, 800 Independence Avenue SW, Washington, DC 20591; telephone (412) 329-3088; email Sandra.ray@faa.gov.

SUPPLEMENTARY INFORMATION:

I. Executive Summary

The FAA is adopting without change, a notice of proposed rulemaking (NPRM),¹ which proposed several amendments in title 14, Code of Federal Regulations (14 CFR), part 91, subpart K, and parts 121, 125, and 135 to remove certain prescriptive manual requirements for certificate holders. This rulemaking amends §§ 91.1025, 121.135, 125.73, and 135.23 to remove the requirement to have the date of last revision on each page concerned as it applies to operators using electronic manuals. Further, this rule adds a separate requirement to allow certificate holders using electronic manuals flexibility in displaying the date of last revision, while maintaining the existing requirement for certificate holders with paper manuals.

¹ Updating Manual Requirements to Accommodate Technology notice of proposed rulemaking, 87 FR 42109 (Jul. 14, 2022).

In addition, this rulemaking clarifies in §§ 91.1023, 121.139, and 135.21 that program managers or certificate holders must ensure appropriate parts of the manual are accessible on each aircraft when the aircraft are away from their principal base of operations, in lieu of indicating that manuals must exist in any particular format. This rulemaking provides certificate holders flexibility regarding how their flight, ground, and maintenance personnel access electronic manuals and permits them to obtain information in a manner that reflects current technological capabilities.²

² Other regulations, such as 14 CFR 91.9, contain language that does not preclude referring to or carrying manuals that exist in an electronic format. This rule does not address such regulations.

Lastly, this rulemaking amends §§ 91.1023, 121.139, 125.71, and 135.21 to update language that requires certificate holders accessing manuals in “other than printed form” to ensure there is a “compatible reading device available to those persons that provides a legible image” or “a system that is able to retrieve the maintenance information and instructions in the English language.” The FAA replaces this outdated language with a requirement that all manual information and instructions be displayed clearly and be retrievable in the English language.

II. Authority for This Rulemaking

The FAA's authority to issue rules on aviation safety is found in Title 49 of the United States Code (U.S.C.). Subtitle I, Section 106 describes the authority of the FAA Administrator. Section 106(f) vests final authority in the Administrator for carrying out all functions, powers, and duties of the Administrator relating to the promulgation of regulations and rules.

Subtitle VII of title 49, Aviation Programs, describes in more detail the scope of the FAA's authority. This rulemaking is issued under the authority described in Subtitle VII, Aviation Programs, section 44701(a)(5). Under that section, the FAA is charged with prescribing regulations and minimum standards for other practices, methods, and procedures necessary for safety in air commerce and national security. This regulation is within the scope of that authority.

Authority for this particular rulemaking is also derived from 49 U.S.C. 44701(d)(1)(A), which specifically states the Administrator, when prescribing safety regulations, must consider the duty of an air carrier to provide service with the highest possible degree of safety in the public interest. Such authority applies to the oversight the FAA exercises to ensure safety of aviation operations, including review of manual information and instructions.

III. Background

FAA regulations require operators subject to part 91, subpart K, and parts 121, 125, and 135 to prepare and keep current operations manuals for use and guidance of flight, ground operations, and management personnel. These manuals must contain specific information about operations and must include the names of management personnel; copies of operations specifications; and many procedures for weight and balance calculations, accident notifications, airworthiness determinations, reporting mechanical irregularities, maintenance, and refueling.³ Manuals ensure appropriate employees and contractors providing service for an operator are aware of the necessary steps for operating, moving, and servicing an aircraft in a safe manner.

³ See 14 CFR 91.1025, 121.135, 125.73, 135.23.

Operators currently use electronic and internet-based technology to provide their flight, ground, and maintenance personnel with access to the manuals in a variety of formats, including electronic flight bags (EFB) and portable electronic devices (PED). Such technology has caused many operators to utilize manuals in electronic format rather than accessing paper manuals. This final rule updates FAA manual requirements to reflect industry use of electronic and paper manuals.

A. Statement of the Problem

Current manual requirements in applicable FAA regulations do not appropriately accommodate the use of electronic manuals. Further, the requirement that some certificate holders “carry” appropriate parts of the manual on each aircraft when away from their principal base of operations is outdated and no longer necessary due to modern technology. Prior to the advent of electronic manuals and the internet, operators were required to physically carry the ground servicing and maintenance parts of the manual aboard an aircraft to ensure the manual was available to personnel at out stations or other locations away from the certificate holder's principal base of operations. Personnel at out stations did not always have their own manuals, or access to necessary manuals, so they relied on the aircraft to carry the manuals to them. Technological advancements have now rendered this prescriptive requirement unnecessary because accessing electronic manuals is significantly easier for flight, ground, and maintenance personnel. The current language requires operators accessing manuals in “other than printed form” to ensure there is a “compatible reading device available to those persons that provide a legible image” or “a system that is able to retrieve the maintenance information and instructions in the English language” is outdated. The FAA promulgated this text during an era when certificate holders used microfiche technology to store and read manual information. The existing requirements do not reflect current technology.

B. The Notice of Proposed Rulemaking

On July 14, 2022, the FAA published an NPRM titled “Updating Manual Requirements to Accommodate Technology.” ⁴ In the NPRM, the FAA proposed revisions to manual requirements to reflect industry use of electronic and paper manuals, to remove outdated language, and simply require that all manual information and instructions be displayed clearly and be retrievable in the English language.

⁴ 87 FR 42109 (July 14, 2022).

The NPRM provided for a 60-day comment period, which ended on September 12, 2022. The FAA received four comments from industry (National Business Aviation Association, The Cargo Airline Association, ABXAIR, and Airlines for America (A4A)) and one anonymous comment. All commenters generally supported the proposed revisions; however, A4A and the anonymous commenter recommended changes, as described in the Discussion of the Final Rule section of this preamble.

IV. Discussion of the Final Rule

A. Date of Revision Display (§§ 91.1025, 121.135, 125.73, and 135.23)

The FAA proposed to amend §§ 91.1025, 121.135, 125.73, and 135.23 to remove the requirement for the date of last revision on each page concerned as it applies to operators using electronic manuals. The FAA proposed to revise the introductory paragraphs of §§ 91.1025, 125.73, and 135.23 to state that each manual accessed in paper format must display the date of last revision on each page and that each manual accessed in electronic format must display the date of last revision in a manner in which a person can immediately ascertain it. The FAA proposed similar revisions to § 121.135, as it contains the same language requiring manuals to have the date of last revision on each page revised. Further, the FAA proposed to revise § 121.135(a) introductory text such that it includes the same regulatory text as the FAA adds to the other regulatory sections as discussed above. This rule also removes § 121.135(a)(3) because it contains the requirement to “have the date of last revision on each page concerned,” which would be duplicative of the language in § 121.135(a) introductory text. As a result, the NPRM proposed to designate § 121.135(a)(4) as § 121.135(a)(3). Finally, the FAA proposed to amend the introductory paragraph of § 125.73. While all of the above-referenced sections currently contain the requirement concerning the date of last revision on each revised page, the introductory paragraph of § 125.73 proposed to include an additional requirement that each manual has the “revision number” on each revised page.

A4A made two recommendations for changes in the final rule. First, A4A suggested that the FAA revise § 121.135 (and similar proposed sections) to replace “immediately” with “reasonably.” A4A stated this change would allow electronic manuals to have the date displayed at a location that is reasonably accessible for an ordinary person using the manual, including at the top of the section (e.g., at the top of the table of contents displayed at the beginning of the screen), but not always visible after the user scrolls down in the manual. A4A believed safety would be maintained because the user can easily access the revision date, such as scrolling to the top of the section to ascertain the revision date. A4A stated that requiring that a revision date be “immediately” available, regardless of scrolling, would be overly prescriptive and would require unnecessary retooling of existing manuals and software, which already allow users to easily determine the revision date by scrolling back to the top of the screen.

The FAA has considered the recommendation and determined to keep the existing language of “immediately” in the rule. The FAA's intent in using “immediately” is to require that manuals have the date of last revision readily accessible in the manual that the crewmember is using. “Immediately” means that a crewmember could scroll to find the date within the open document. The FAA determined that “reasonably” is not specific enough of a term and open to interpretation. A crewmember must be able to ascertain quickly that they are using the most current version of the manual.

A4A's second comment recommended that § 121.135 (and similar proposed sections) provide further flexibility on the requirement to “display the date of last revision” for manuals accessed in electronic format, which is a holdover requirement of paper manual systems. A4A stated that the objective of the requirement to display the date of last revision is to ensure and confirm that the technician is using the most up-to-date version of the manual. However, some operator systems have imposed revision access and control capabilities—i.e., systems that force aviation maintenance technicians to access only current, applicable manual data and information, preventing the use of outdated manuals. A4A asserted that such capabilities undoubtedly achieve FAA's objective without needing a display of the revision date. However, in some cases, these manuals may not have the revision date in the text of the electronic format manual because the aviation maintenance technician cannot access previous versions. Accordingly, A4A recommended that the FAA allow for both “display the date of last revision” or “ensure that only the last revision is accessible.”

The FAA has considered the recommendation and has determined to adopt the revisions to §§ 91.1025, 121.135, 125.73, and 135.23 as proposed in the NPRM. The FAA is requiring that the date of last revision be present somewhere in an electronic manual and is leaving the choice of where to place that date on the air carrier. For revision control purposes, there needs to be a method to confirm that employees are using the most current manual when performing their job duties. The FAA determined that the most straightforward way to confirm use of the correct version is to display the date of revision while giving the air carrier the flexibility of determining where to put that date. Additionally, only having one version of the manual on the website does not ensure that it is the most current version.

B. Compatible Reading Device Update (§§ 91.1023, 121.139, 125.71, and 135.21)

Sections 91.1023(g), 121.139(a), 125.71(f), and 135.21(g) require that, when manuals exist in other than printed form, certificate holders must carry compatible reading devices that provide legible images of maintenance information and instructions. In addition, certificate holders must have a system that is able to retrieve the maintenance information and instructions in the English language. The FAA promulgated these requirements when certificate holders used microfiche technology to ensure the information was readable, or retrievable, in the English language.

Specifically, the NPRM proposed to amend the requirements of §§ 91.1023, 121.139, and 135.21 to reflect the ability operators now have to access manuals using electronic devices in order to download the manual or access it via the internet. The proposed amendments to §§ 91.1023, 121.139, and 135.21 give certificate holders the flexibility to use technology in providing access to the electronic manual. Specifically, this final rule removes the requirement that certificate holders “carry” appropriate parts of the manual on each airplane when away from its principal base of operations. The NPRM proposed to replace the word “carry” or “carried” in the aforementioned sections with the requirement to ensure parts of the manual associated with personnel's assigned duties are accessible for flight, ground, and maintenance personnel “at all times when those personnel are performing their duties.” This language ensures personnel always have access to the necessary information while performing their assigned duties.

The FAA acknowledges that the revisions to §§ 91.1023, 121.139, and 135.21 could result in reliability concerns regarding certificate holders' ability to maintain consistent access to its manuals, e.g., during electronic or internet outages. However, the final rule requires personnel to always have access to the relevant manual's information when they are performing their assigned duties. By using performance-based language to require certificate holders ensure availability when these personnel are performing their assigned duties, the final rule indicates certificate holders should maintain policies and procedures to address circumstances in which an electronic or internet outage may occur.

The previously discussed amendments to § 121.139 will result in the removal of paragraphs (a) and (b), replacing them with a single paragraph. Further, the FAA proposed to amend § 121.139 by changing the section heading to read “Manual accessibility: Supplemental operations.”

The NPRM also proposed to amend §§ 91.1023(g), 121.139, 125.71(f), and 135.21(g) to require that all manual information and instructions be displayed clearly and be retrievable in the English language. Removing the compatible reading device requirement is appropriate because electronic manuals do not require a separate, compatible reading device to view the manual information. The NPRM proposed requiring all manual information and instructions be accessible to the appropriate personnel and appear in a manner in which they can read and comprehend the necessary provisions. Due to FAA's oversight of certificate holders' manuals, such manual information and instructions must be readable and retrievable in the English language for the FAA to review and approve the manual. Therefore, the requirement that all manual information and instructions under §§ 91.1023, 121.139, 125.71, and 135.21 be readable and retrievable in the English language codifies current practice and brings this regulatory requirement up-to-date.

The FAA received one comment on this proposal from an anonymous commenter. The anonymous commenter stated that the exception language in existing § 121.139(b) is very similar to the exception language in § 125.71(g). However, the FAA stated in the NPRM that the amendment to the similar requirement in § 125.71 is not needed. The commenter believed the rationale for the change in § 121.139 would appear to apply equally to § 125.71(g). The commenter suggested the FAA review § 125.71(g) again to determine if a similar change is warranted.

The FAA has reviewed the comment and the section in question and determined that no change is warranted. Under current § 121.139, certificate holders conducting supplemental operations are always required to carry manuals onboard the aircraft except if the certificate holder performs all scheduled maintenance at specified stations where it keeps maintenance parts of the manual. The proposed revision would allow certificate holders to not carry the manuals onboard the aircraft as long as they are accessible while performing assigned duties, and thus this particularized exception is no longer needed. Section 125.71 requires that manuals must be made available, but it does not state that the manuals must be carried onboard the aircraft, as does § 121.139. Therefore, no change is required. Accordingly, the FAA adopts all amendments to §§ 91.1023, 121.139, 125.71, and 135.21 as proposed.

V. Regulatory Notices and Analyses

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100 million or more (adjusted annually for inflation) in any one year. The current threshold after adjustment for inflation is $165 million using the most current (2021) Implicit Price Deflator for the Gross Domestic Product. This portion of the preamble summarizes the FAA's analysis of the economic impacts of this rule.

In conducting these analyses, the FAA has determined that this final rule: will result in benefits that justify costs; is not an economically “significant regulatory action” as defined in section 3(f) of Executive Order 12866; will not have a significant economic impact on a substantial number of small entities; will not create unnecessary obstacles to the foreign commerce of the United States; and will not impose an unfunded mandate on State, local, or tribal governments, or on the private sector.

A. Regulatory Impact Analysis

The FAA estimates the rulemaking will not result in additional costs to affected operators that conduct operations under part 91, subpart K, and parts 121, 125, and 135. The rule provides flexibility for the efficient use of electronic manuals for these operators. The modified requirements also ensure consistency for manual requirements for these operators. These flexibilities may reduce the administrative costs of maintaining and providing manual accessibility to these operators. The FAA determines changes to the rule will not adversely affect safety.

This rulemaking updates the manual display requirements for these affected operators to accommodate electronic manuals. In particular, the modified rules remove the requirement to have the date of last revision on each page concerned as it applies to operators using electronic manuals. This rule adds a separate requirement to allow operators using electronic manuals flexibility in displaying the date of last revision while maintaining the existing requirement for operators with paper manuals.

This rule also revises the current requirement to physically carry appropriate parts of the manual aboard airplanes for these operators. As a result, operators will have flexibility regarding how flight, ground, and maintenance personnel use electronic manuals and can provide access to each manual's information in a manner that reflects current technological capabilities.

Based on information from industry, affected operators currently provide their flightcrew personnel with access to manuals in electronic formats, including EFBs and PEDs.⁵ In addition, most operators currently provide ground and maintenance personnel at their stations access to the manual information necessary for ground handling and servicing of aircraft through electronic devices such as computers and PEDs.

⁵ Advisory Circular 120-76D (Oct. 27, 2017) describes an EFB as “any device, or combination of devices, actively displaying EFB applications” and EFB applications as “generally replacing conventional paper products and tools, traditionally carried in the pilot's flight bag. EFB applications include natural extensions of traditional flight bag contents, such as replacing paper copies of weather with access to near-real-time weather information.” This document can be accessed at https://www.faa.gov/regulations_policies/advisory_circulars/index.cfm/go/document.information/documentID/1032166. A portable electronic device refers to a cellular phone, laptop, tablet, or other portable electronic device on which the manual can be downloaded or accessed via the internet. Advisory Circular 120-76D (Oct. 27, 2017) describes these devices as “consumer commercial off-the-shelf (COTS) electronic devices functionally capable of communications, data processing, and or/utility[.]” This document can be accessed at https://www.faa.gov/regulations_policies/advisory_circulars/index.cfm/go/document.information/documentID/1032166.

The FAA expects the incremental changes from this final rule to provide additional flexibilities to these operators for the efficient use of electronic manuals with no additional costs. These flexibilities may result in savings from avoided costs to these operators of maintaining and providing access to manuals for flightcrew, ground, and maintenance personnel. The FAA did not identify data to quantify with certainty the incremental savings of this rulemaking and the flexibilities it will provide to operators conducting operations under part 91, subpart K, and parts 125 and 135.

The Aviation Rulemaking Advisory Committee (ARAC) report provided information and insight on the potential costs and savings related to certain part 121 operators conducting operations to ensure appropriate parts of the manual are available for use by ground and maintenance personnel.⁶ The report found technological advances and the availability of internet connections have eliminated the need for paper manuals for these operators.

⁶ ARAC Input to Support Regulatory Reform of Aviation Regulations-ARAC Addendum Report at 74 (Sept. 12, 2017), available at https://www.faa.gov/regulations_policies/rulemaking/committees/documents/media/Phase%202%20Report_Final%20Recommendations_Post%20ARAC%20Mt_Sept%2018%20(1).pdf.

The report identified potential cost savings that would include a reduction in weight through the elimination of paper manuals compared to equipment associated with non-paper manuals and a reduction in time auditing, updating, and printing paper manuals. In the report, one A4A member reported annual costs of approximately $500,000 for operators of part 121 airplanes to create paper manuals.⁷ If this is representative of current costs for all 64 affected part 121 operators,⁸ then the estimated annual savings are $32,000,000 (= $500,000 × 64). Over a five-year period of analysis, the present value savings are approximately $146.6 million at a three-percent discount rate or approximately $132.2 million at a seven-percent discount rate. The FAA notes that this cost-saving estimate is conservative because the ARAC report only provided information for one part 121 operator, and this rule also affects operators in part 91, subpart K, and parts 125 and 135 service.

⁷ It is unclear if this estimate is net of incremental costs that would occur due to this final rule and does not include costs that would result regardless of this change.

⁸ At the time of writing, there were 64 active part 121 certificate holders (data accessed January 14, 2022).

The changes in this rulemaking will not have an adverse impact on safety because flightcrew members or inspectors will continue to be able to identify and ensure the manual or appropriate parts are up-to-date. Likewise, the changes to manual accessibility to these operators have no adverse impact on safety because flight, ground, and maintenance personnel have access to the necessary parts of the manual wherever these operators conduct their operations.

In addition, the FAA has determined no adverse safety implication will result from the final rule for flightcrews and other personnel because such personnel are required to have access to parts of the manual that are appropriate to their assigned duties when they are performing those duties. This rule alone will not result in new logistical issues related to connectivity because much of the current baseline maintenance activities rely on connectivity. In addition, as discussed in the ARAC report, in the unlikely event that connectivity is problematic or the on-ground electronic means is interrupted, maintenance activities will temporarily halt. While this may affect operations, it ensures that no adverse effect on safety occurs.

B. Regulatory Flexibility Act

The Regulatory Flexibility Act (RFA) of 1980, Public Law 96-354, (5 U.S.C. 601-612), as amended by the Small Business Regulatory Enforcement Fairness Act of 1996 (Pub. L. 104-121, 110 Stat. 857, Mar. 29, 1996) and the Small Business Jobs Act of 2010 (Pub. L. 111-240, 124 Stat. 2504, Sept. 27, 2010), requires Federal agencies to consider the effects of the regulatory action on small business and other small entities and to minimize any significant economic impact. The term “small entities” comprises small businesses and not-for-profit organizations that are independently owned and operated and are not dominant in their fields and governmental jurisdictions with populations of less than 50,000.

This rule removes the requirement to have the date of last revision on each page concerned, as it applies to part 91, subpart K, and parts 121, 125, and 135 operators using electronic manuals and adds a separate requirement that allows operators using electronic manuals flexibility in displaying the date of last revision, while maintaining the requirement for operators using paper manuals. This rulemaking also revises the current requirement to carry appropriate parts of the manual aboard airplanes for these operators. As a result, this rulemaking provides operators with flexibility regarding how flight, ground, and maintenance personnel access the appropriate parts of the manual. The rulemaking, therefore, enables these operators to use electronic manuals efficiently and provide access to the manual information in a manner that reflects current technological capabilities.

The rulemaking will not result in additional costs to affected operators. The rulemaking does not mandate the use of an electronic format for manuals. Rather, the rule provides flexibility for the efficient use of electronic manuals. Such flexibility may reduce administrative costs of maintaining and providing manual accessibility to these operators. In addition, the FAA estimates that some operators will not incur savings from this rule because they currently benefit from these flexibilities.

Therefore, as provided in 5 U.S.C. 605(b), the head of the FAA certifies that this rulemaking will not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this rulemaking and determined that it will have only a domestic impact and, therefore, will not create obstacles to the foreign commerce of the United States.

D. Unfunded Mandates Assessment

The Unfunded Mandates Reform Act of 1995 (2 U.S.C. 1531-1538) governs the issuance of Federal regulations that require unfunded mandates. An unfunded mandate is a regulation that requires a State, local, or tribal government or the private sector to incur direct costs without the Federal Government having first provided the funds to pay those costs. The FAA determined that this final rule will not result in the expenditure of $165 million or more by State, local, or tribal governments, in the aggregate, or the private sector, in any one year.

E. Paperwork Reduction Act

The Paperwork Reduction Act of 1995 (44 U.S.C. 3507(d)) requires that the FAA consider the impact of paperwork and other information collection burdens imposed on the public. This rule does not include any new requirement for information collection or changes to existing information collections associated with this final rule. The existing information collection associated with all part 121 manual requirements was approved under Office of Management and Budget (OMB) control number 2120-0008, Part 121 Operating Requirements: Domestic, Flag, and Supplemental Operations. The information collection estimates the cost for the original manual for original certification and the cost of manual revisions. The information collection attributes the burden associated with manual revision to § 121.133 and does not attribute any burden to § 121.139. The FAA has determined this rulemaking does not require any adjustment in the estimate of public or government burden under the Paperwork Reduction Act.

The existing information collection associated with all part 135 manual requirements was approved under OMB control number 2120-0039, Part 135—Operating Requirements: Commuter and On-demand Operations and Rules Governing Persons on Board such Aircraft. This collection attributes the burden with manuals to § 135.21. The FAA has determined this rule does not require any adjustment in the estimate of public or government burden under the Paperwork Reduction Act.

The existing information collection associated with all part 125 manual requirements was approved under OMB control number 2120-0085, Certification and Operations: Airplanes with Seating Capacity of 20 or More Passenger Seats or Maximum Payload of 6,000 Pounds or More—14 CFR part 125. This collection associates the burden with manuals to § 125.71. The FAA has determined this rulemaking does not require any adjustment in the estimate of public or government burden under the Paperwork Reduction Act.

The existing information collection associated with all 14 CFR part 91, subpart K, was approved under OMB control number 2120-0684, Fractional Ownership Programs. This collection attributes the burden with manuals to § 91.1023. The FAA has determined this rulemaking does not require any adjustment in the estimate of public or government burden under the Paperwork Reduction Act.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these regulations.

G. Environmental Analysis

FAA Order 1050.1F identifies FAA actions that are categorically excluded from the preparation of an environmental assessment or environmental impact statement under the National Environmental Policy Act (NEPA) in the absence of extraordinary circumstances. The FAA has determined this rulemaking action qualifies for the categorical exclusion identified in paragraph 5-6.6f for regulations and involves no extraordinary circumstances.

VI. Executive Order Determinations

A. Executive Order 13132, Federalism

The FAA has analyzed this final rule under the principles and criteria of Executive Order 13132, Federalism. The FAA has determined that this action will not have a substantial direct effect on the States, or the relationship between the Federal Government and the States, or on the distribution of power and responsibilities among the various levels of government and, therefore, will not have federalism implications.

B. Executive Order 13175, Consultation and Coordination With Indian Tribal Governments

Consistent with Executive Order 13175, Consultation and Coordination with Indian Tribal Governments,⁹ and FAA Order 1210.20, American Indian and Alaska Native Tribal Consultation Policy and Procedures,¹⁰ the FAA ensures that Federally Recognized Tribes (Tribes) are given the opportunity to provide meaningful and timely input regarding proposed Federal actions that have the potential to have substantial direct effects on one or more Indian tribes, on the relationship between the Federal Government and Indian tribes, or on the distribution of power and responsibilities between the Federal Government and Indian tribes; or to affect uniquely or significantly their respective Tribes. The FAA has not identified any unique or significant effects, environmental or otherwise, on tribes resulting from this final rule.

⁹ 65 FR 67249 (Nov. 6, 2000).

¹⁰ FAA Order No. 1210.20 (Jan. 28, 2004), available at https://www.faa.gov/documentLibrary/media/1210.pdf.

C. Executive Order 13211, Regulations That Significantly Affect Energy Supply, Distribution, or Use

The FAA analyzed this final rule under Executive Order 13211, Actions Concerning Regulations that Significantly Affect Energy Supply, Distribution, or Use. The FAA has determined that it is not a “significant energy action” under the Executive order and is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action will have no effect on international regulatory cooperation.

VII. Additional Information

A. Electronic Access and Filing

A copy of the NPRM, all comments received, this final rule, and all background material may be viewed online at https://www.regulations.gov using the docket number listed above. A copy of this final rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found on the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or amendment number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official or the person listed under the FOR FURTHER INFORMATION CONTACT heading at the beginning of the preamble. To find out more about SBREFA on the internet, visit https://www.faa.gov/regulations_policies/rulemaking/sbre_act/.

List of Subjects

14 CFR Part 91

Air carriers, Air taxis, Aircraft, Airports, Aviation safety, Charter flights, Freight, Reporting and recordkeeping requirements, Transportation.

14 CFR Part 121

Air carriers, Aircraft, Airmen, Aviation safety, Charter flights, Reporting and recordkeeping requirements, Safety, Transportation.

14 CFR Part 125

Aircraft, Airmen, Aviation safety, Reporting and recordkeeping requirements.

14 CFR Part 135

Air taxis, Aircraft, Airmen, Aviation safety, Reporting and recordkeeping requirements.

The Amendment

In consideration of the foregoing, the Federal Aviation Administration amends chapter I of title 14, Code of Federal Regulations as follows:

PART 91—GENERAL OPERATING AND FLIGHT RULES

1. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

2. Amend § 91.1023 by:

a. Revising paragraphs (f) and (g);

b. Removing paragraph (h); and

c. Redesignating paragraph (i) as paragraph (h).

The revisions read as follows:

§ 91.1023 Program operating manual requirements.

* * * * *

(f) The program manager must ensure the appropriate parts of the manual are accessible to flight, ground, and maintenance personnel at all times when such personnel are performing their assigned duties.

(g) The information and instructions contained in the manual must be displayed clearly and be retrievable in the English language.

* * * * *

3. Amend § 91.1025 by revising the introductory text to read as follows:

§ 91.1025 Program operating manual contents.

Each program operating manual accessed in paper format must display the date of last revision on each page. Each program operating manual accessed in electronic format must display the date of last revision in a manner in which a person can immediately ascertain it. Unless otherwise authorized by the Administrator, the manual must include the following:

* * * * *

PART 121—OPERATING REQUIREMENTS: DOMESTIC, FLAG, AND SUPPLEMENTAL OPERATIONS

4. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95, 126 Stat. 62 (49 U.S.C. 44732 note); Pub. L. 115-254, 132 Stat. 3186 (49 U.S.C. 44701 note).

5. Amend § 121.135 by:

a. Revising paragraph (a) introductory text;

b. Adding the word “and” at the end of paragraph (a)(2);

c. Removing paragraph (a)(3); and

d. Redesignating paragraph (a)(4) as paragraph (a)(3).

The revision reads as follows:

§ 121.135 Manual contents.

(a) Each manual accessed in paper format must display the date of last revision on each page. Each manual accessed in electronic format must display the date of last revision in a manner in which a person can immediately ascertain it. Each manual required by § 121.133 must:

* * * * *

6. Revise § 121.139 to read as follows:

§121.139 Manual accessibility: Supplemental operations.

Each certificate holder conducting supplemental operations must ensure the appropriate parts of the manual are accessible to flight, ground, and maintenance personnel at all times when such personnel are performing their assigned duties. The information and instructions contained in the manual must be displayed clearly and be retrievable in the English language.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

7. The authority citation for part 125 continues to read as follows:

Authority: 49 U.S.C. 106(f), 106(g), 40113, 44701-44702, 44705, 44710-44711, 44713, 44716-44717, 44722.

8. Amend § 125.71 by revising paragraph (f) to read as follows:

§ 125.71 Preparation.

* * * * *

(f) The information and instructions contained in the manual must be displayed clearly and be retrievable in the English language.

* * * * *

9. Amend § 125.73 by revising the introductory text to read as follows:

§ 125.73 Contents.

Each manual accessed in paper format must display the date of last revision on each page. Each manual accessed in electronic format must display the date of last revision in a manner in which a person can immediately ascertain it. The manual must include:

* * * * *

PART 135—OPERATING REQUIREMENTS: COMMUTER AND ON DEMAND OPERATIONS AND RULES GOVERNING PERSONS ON BOARD SUCH AIRCRAFT

10. The authority citation for part 135 continues to read as follows:

Authority: 49 U.S.C. 106(f), 106(g), 40113, 41706, 44701-44702, 44705, 44709, 44711-44713, 44715-44717, 44722, 44730, 45101-45105; Pub. L. 112-95, 126 Stat. 58 (49 U.S.C. 44730).

11. Amend § 135.21 by:

a. Revising paragraphs (f) and (g); and

b. Removing paragraph (h).

The revisions read as follows:

§ 135.21 Manual requirements.

* * * * *

(f) The certificate holder must ensure the appropriate parts of the manual are accessible to flight, ground, and maintenance personnel at all times when such personnel are performing their assigned duties.

(g) The information and instructions contained in the manual must be displayed clearly and be retrievable in the English language.

12. Amend § 135.23 by revising the introductory text to read as follows:

§ 135.23 Manual contents.

Each manual accessed in paper format must display the date of last revision on each page. Each manual accessed in electronic format must display the date of last revision in a manner in which a person can immediately ascertain it. The manual must include:

* * * * *

Issued under authority provided by 49 U.S.C. 106(f), 106(g), and 44701(a)(5), in Washington, DC on or about May 22, 2023.
Billy Nolen,
Acting Administrator.

[FR Doc. 2023-11246 Filed 5-26-23; 8:45 am]

BILLING CODE 4910-13-P